DEPARTMENT OF ENERGY

Federal Energy Regulatory Commission

[Project No. 2615-037]

FPL Energy Maine Hydro LLC, Madison Paper Industries, and Merimil Limited Partnership; Notice of Application Tendered for Filing With the Commission and Establishing Procedural Schedule for Licensing and Deadline for Submission of Final Amendments

April 6, 2010.

Take notice that the following hydroelectric application has been filed with the Commission and is available for public inspection:

a. Type of Application: New Major License.

b. Project No.: 2615-037.

c. Date Filed: March 31, 2010.

d. Applicant: FPL Energy Maine Hydro LLC, Madison Paper Industries, and Merimil Limited Partnership.

e. Name of Project: Brassua Hydroelectric Project.

f. Location: The existing project is located on the Moose River in Somerset County, Maine. The project does not affect federal lands.

g. Filed Pursuant to: Federal Power Act, 16 U.S.C. 791(a)-825(r).

h. Applicant Contact: Mr. Frank H. Dunlap, FPL Energy Maine Hydro, LLC,

26 Katherine Drive, Hallowell, Maine 04347; Telephone (207) 629-1817.

i. FERC Contact: John Costello, (202) 502-6119 or john.costello@ferc.gov.

j. This application is not ready for environmental analysis at this time.

k. The Project Description: The existing Brassua Project includes: (1) A 1,789-foot-long dam consisting of: (a) An earth dike 410 feet long with 100 feet of concrete core wall; (b) a concrete-faced earth dike 342.5 feet long; (c) a concrete Ambursen dam 284 feet long with a height of 52 feet above the stream bed; (d) a 18.5-foot fishway (inactive); and (e) a 734-foot earth dike with a concrete core wall; (2) a 9,700-acre reservoir (known as Brassua Lake) with a normal pool elevation 1,074.0 feet (U.S.G.S. datum) and maximum drawdown of 31 feet, extending 7.75 miles upstream; (3) a reinforced-concrete intake structure; (4) a 110-foot-long, 13-foot square penstock; (5) a 32-foot-high, 32-foot-wide and 60-foot-long powerhouse; (6) a 4.18-MW generating unit; (7) a 40-foot-wide, 15-foot-deep and 60-foot-long tailrace; (8) a substation; (9) a 0.5-mile-long, 34.5-kV (kilovolt) transmission line; and (10) appurtenant facilities. The earth sections of the dam are topped with 33.5-inch-high wave barriers (Jersey barriers).

The Brassua Project is operated as a seasonal storage facility where water releases are determined by downstream demands for hydroelectric generation in the Kennebec River and for flood control. Reservoir fluctuations follow an annual cycle under which reservoir levels are reduced during the fall and winter to provide additional flows downstream as well as to make storage volume available for spring snow melt and runoff. After the spring refill, flow is released for the Brassua reservoir to provide summer minimum instream flows as well as water for industrial and municipal uses. Specific project operation requirements are discussed below.

The current license allows the licensees to operate the Brassua Project in peaking mode from July 1st through August 31st and from November 6th through the start of spring freshnet (normally mid-May) of each year. The licensees are required to cease peaking operation and resume normal operation in which flows through the project are maintained constant on a daily basis from spring freshet through June 30th and from September 1st through November 5th of each year.

The current license requires the licensees to release the following minimum flows and maintain the following target water levels to protect fish and aquatic habitat and to benefit the reproductive efforts of the landlocked salmon population in the Moose River. All Minimum flow releases are maintained through the turbine or deep gates and discharged in the lower Moose River below the dam.

l. Locations of the Application: A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item (h) above.

m. You may also register online at http://www.ferc.gov/docs-filing/esubscription.asp to be notified via e-mail of new filings and issuances related to this or other pending projects. For assistance, contact FERC Online Support.

n. Procedural Schedule:

The application will be processed according to the following Hydro Licensing Schedule. Revisions to the schedule may be made as appropriate.

Milestone | Target Date
Notice of Acceptance/Notice of Ready for Environmental Analysis (when FERC approved studies are complete) | May 30, 2010.
Filing of recommendations, preliminary terms and conditions, and fishway prescriptions | July 29, 2010.
Commission issues EA | January 10, 2011.
Comments on EA | February 9, 2011.
Modified terms and conditions | April 10, 2011.

o. Final amendments to the application must be filed with the Commission no later than 30 days from the issuance date of the notice of ready for environmental analysis.

Kimberly D. Bose,
Secretary.

[FR Doc. 2010-8354 Filed 4-12-10; 8:45 am]

BILLING CODE 6717-01-P